DEPARTMENT OF THE INTERIOR

Fish and Wildlife Service

Notice of Availability of a Technical Agency Draft Recovery Plan for the Threatened Guajón (Eleutherodactylus cooki) for Review and Comment

AGENCY: Fish and Wildlife Service, Interior.

ACTION: Notice of document availability and public comment period.

SUMMARY: We, the Fish and Wildlife Service, announce the availability of the technical agency draft recovery plan for the guajón (also referred to as the Puerto Rican demon). The guajón is one of sixteen species of frogs from the genus Eleutherodactylus, commonly known as “coquíes” that inhabit the island of Puerto Rico, and is also the second largest species found on the island. The guajón is extremely limited in its geographic distribution. The species inhabits localities in the “Sierra de Panduras” mountain range, and the municipalities of Yabucoa, San Lorenzo, Humacao, Las Piedras, and west to Patillas-San Lorenzo. The guajón, named after the habitat it occupies, occurs at low and intermediate elevations, from 18 to 1,183 feet (5.5 to 360.6 meters) above sea level, where it inhabits caves formed by large boulders of granite rock known as “guajonales” or streams with patches of rock without cave systems. The technical agency draft recovery plan includes specific recovery objectives and criteria to be met in order to delist the guajón under the Endangered Species Act of 1973, as amended (Act). We solicit review and comment on this technical agency draft recovery plan from local, State, and Federal agencies, and the public.

DATES: In order to be considered, we must receive comments on the technical agency draft recovery plan on or before June 1, 2004.

ADDRESSES: If you wish to review this technical agency draft recovery plan, you may obtain a copy by contacting the Boquerón Field Office, U.S. Fish and Wildlife Service, P.O. Box 491, Boquerón, Puerto Rico 00622 (telephone (787) 851-7297), or by visiting our recovery plan Web site at http://endangered.fws.gov/recovery/index.html#plans. If you wish to comment, you may submit your comments by any one of several methods:

1. You may submit written comments and materials to the Field Supervisor, at the above address.

2. You may hand-deliver written comments to our Boquerón Field Office, at the above address, or fax your comments to (787) 851-7440.

3. You may send comments by e-mail to Jorge_Saliva@fws.gov. For directions on how to submit electronic filing of comments, see the “Public Comments Solicited” section.

Comments and materials received are available for public inspection on request, by appointment, during normal business hours at the above address.

FOR FURTHER INFORMATION CONTACT: Jorge Saliva at the above address (telephone (787) 851-7297, ext. 24).

SUPPLEMENTARY INFORMATION:

Background

We listed the guajón as threatened on June 11, 1997 under the Act (62 FR 31757). The guajón may be the only species of Eleutherodactylus in Puerto Rico that exhibits differences between sexes in color. Females have solid brown coloration, with a uniformly white undersurface. They have white-rimmed eyes, and large, truncate disks on their feet. Males have yellow coloration extending from the vocal sac to the abdomen and flanks. Females are larger than males, with a mean size (snout-vent length) of 2.01 inches (5.11 cm) for females and 1.71 inches (4.34 cm) for males. The voice of the guajón is low and melodious.

For this species, deforestation and earth movement for agricultural, urban and rural development, and highway construction are likely the principal causes for decline. In addition, the guajón is threatened by the use of pesticides, herbicides, and fertilizers in adjacent areas, illegal garbage dumping, and the effects of catastrophic natural events such as droughts and hurricanes. Additional research is planned to look at these and other potential causes for decline.

Restoring an endangered or threatened animal or plant to the point where it is again a secure, self-sustaining member of its ecosystem is a primary goal of the endangered species program. To help guide the recovery effort, we are preparing recovery plans for most listed species. Recovery plans describe actions considered necessary for conservation of the species, establish criteria for downlisting or delisting, and estimate time and cost for implementing recovery measures.

The Act requires the development of recovery plans for listed species, unless such a plan would not promote the conservation of a particular species. Section 4(f) of the Act requires us to provide a public notice and an opportunity for public review and comment during recovery plan development. We will consider all information presented during a public comment period prior to approval of each new or revised recovery plan. We and other Federal agencies will take these comments into account in the course of implementing approved recovery plans.

The objective of this technical agency draft plan is to provide a framework for the recovery of the guajón so that protection under the Act is no longer necessary. As recovery criteria are met, the status of the species will be reviewed and they will be considered for removal from the Federal List of Endangered and Threatened Wildlife and Plants (50 CFR part 17).

Public Comments Solicited

We solicit written comments on the recovery plan described. We will consider all comments received by the date specified above prior to final approval of the draft recovery plan.

Please submit electronic comments as an ASCII file format and avoid the use of special characters and encryption. Please also include your name and return address in your e-mail message. If you do not receive a confirmation from the system that we have received your e-mail message, contact us directly by calling our Boquerón Field Office (see ADDRESSES section).

Our practice is to make all comments, including names and home addresses of respondents, available for public review during regular business hours. Individual respondents may request that we withhold their home addresses from the record, which we will honor to the extent allowable by law. In some circumstances, we would withhold also from the rulemaking record a respondent's identity, as allowable by law. If you wish for us to withhold your name and/or address, you must state this prominently at the beginning of your comments. However, we will not consider anonymous comments. We will make all submissions from organizations or businesses, and from individuals identifying themselves as representatives or officials of organizations or businesses, available for public inspection in their entirety.

Authority

The authority for this action is section 4(f) of the Endangered Species Act, 16 U.S.C. 1533 (f).

Dated: February 19, 2004.
J. Mitch King,
Deputy Regional Director, Southeast Region, U.S. Fish and Wildlife Service.

[FR Doc. 04-7349 Filed 3-31-04; 8:45 am]

BILLING CODE 4310-55-P